DEPARTMENT OF COMMERCE

International Trade Administration

(C-533-844, C-500-819)

Certain Lined Paper Products From India and Indonesia: Alignment of First Countervailing Duty Determination With Antidumping Duty Determination

AGENCY: Import Administration, International Trade Administration, Department of Commerce.

EFFECTIVE DATE: March 7, 2006.

FOR FURTHER INFORMATION CONTACT: Maura Jeffords or Robert Copyak (India), and David Layton or David Neubacher (Indonesia) AD/CVD Operations, Import Administration, International Trade Administration, U.S. Department of Commerce, 14th Street and Constitution Avenue, NW., Washington, DC 20230; telephone (202) 482-3146 or (202) 482-2209, and (202) 482-0371 or (202) 482-5823, respectively.

Background

On February 6, 2006, we completed the preliminary affirmative countervailing duty determinations pertaining to certain lined paper products from India and Indonesia. See Notice of Preliminary Affirmative Countervailing Duty Determination and Preliminary Negative Critical Circumstances: Certain Lined Paper from India, 73 FR 7916 (February 15, 2006); and Notice of Preliminary Affirmative Countervailing Duty Determination and Preliminary Negative Critical Circumstances, Certain Lined Paper from Indonesia, 71 FR 7524 (February 13, 2006). On February 17, 2006, the petitions submitted a letter requesting alignment of the final determination in these investigations with the final determination in the respective companion antidumping investigations. Therefore, in accordance with section 705(a)(1) the Tariff Act of 1930, as amended (the Act), we are aligning the final determination in these investigations with the final determinations in the antidumping duty investigations of lined paper products from India and Indonesia.

This notice is issued and published pursuant to section 705(a)(1) of the Act.

Dated: February 28, 2006.
David M. Spooner,
Assistant Secretary for Import Administration.

[FR Doc. 06-2139 Filed 3-6-06; 8:45 am]

BILLING CODE 3510-DS-M